DEPARTMENT OF LABOR

Occupational Safety and Health Administration

[Docket No. OSHA-2005-0022]

TÜV SÜD Product Services GmbH: Grant of Renewal of Recognition

AGENCY: Occupational Safety and Health Administration (OSHA), Labor.

ACTION: Notice.

SUMMARY: In this notice, OSHA announces its final decision granting renewal of recognition of TÜV SÜD Product Services GmbH's (TUVPSG) as a Nationally Recognized Testing Laboratory (NRTL) under 29 CFR 1910.7.

DATES: The renewal of recognition becomes effective on January 30, 2014.

FOR FURTHER INFORMATION CONTACT: David W. Johnson, Director, Office of Technical Programs and Coordination Activities, NRTL Program, Occupational Safety and Health Administration, U.S. Department of Labor, 200 Constitution Avenue NW., Room N-3655, Washington, DC 20210, phone (202) 693-2110, or email at johnson.david.w@dol.gov.

SUPPLEMENTARY INFORMATION:

I. Background

OSHA recognition of an NRTL signifies that the organization meets the requirements in § 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification. OSHA maintains an informational Web site for each NRTL that details its scope of recognition available at http://www.osha.gov/dts/otpca/nrtl/index.html.

OSHA processes applications by an NRTL for renewal of recognition following requirements in Appendix A to 29 CFR 1910.7. OSHA conducts renewals in accordance with the procedures in 29 CFR 1910.7, App. II.C. In accordance with these procedures, NRTLs submit a renewal request to OSHA not less than nine months or no more than one year before the expiration date of its current recognition. A renewal request includes a request for renewal and any additional information the NRTL wishes to submit to demonstrate its continued compliance with the terms of its recognition and 29 CFR 1910.7. If OSHA has not conducted an on-site assessment of the NRTL key sites within the past 18 to 24 months, it will schedule the necessary on-site assessments prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

TUVPSG initially received OSHA recognition as an NRTL on July 20, 2001 (66 FR 38032), for a five-year period ending on July 20, 2006. TUVPSG submitted a timely request for renewal, dated October 10, 2005 (see Exhibit OSHA-2005-0022-0003), and retained its recognition pending OSHA's final decision in this renewal process. The current address of the TUVPSG facility recognized by OSHA and included as part of the renewal request is TÜV SÜD Product Services GmbH, Ridlerstrasse 65, D-80339, Munich, Germany.

OSHA evaluated TUVPSG's application for renewal and made a preliminary determination that TUVPSG can continue to meet the requirements prescribed by 29 CFR 1910.7 for recognition. OSHA conducted an audit of TUVPSG's facilities on April 26, 2013, and found TUVPSG to be in conformance with all applicable NRTL requirements. Accordingly, OSHA determined that it did not need to conduct an on-site review of TUVPSG's facilities based on its evaluation of TUVPSG's application and all other available information.

OSHA published the preliminary notice announcing TUVPSG's renewal request in the Federal Register on November 25, 2013. The Agency requested comments by December 10, 2013, but it received no comments in response to this notice. OSHA now is proceeding with this final notice to grant TUVPSG's request for renewal of recognition.

To obtain or review copies of all public documents pertaining to the TUVPSG's application, contact the Docket Office, Occupational Safety and Health Administration, U.S. Department of Labor, 200 Constitution Avenue NW., Room N-2625, Washington, DC 20210. Docket No. OSHA-2005-0022 contains all materials in the record concerning TUVPSG's recognition.

II. Final Decision and Order

Pursuant to the authority granted under 29 CFR 1910.7, OSHA hereby gives notice of the renewal of recognition of TUVPSG as an NRTL. OSHA NRTL Program staff reviewed the renewal request for TUVPSG and other pertinent information provided by TUVPSG. Based on this review, OSHA finds that TUVPSG meets the requirements of 29 CFR 1910.7 for renewal of its recognition, subject to the limitation and conditions listed below. OSHA limits the renewal of TUVPSG's recognition to include the terms and conditions of TUVPSG's individual scope of recognition. The scope of recognition for TUVPSG is available in the Federal Register notice dated July 20, 2001 (66 FR 38032) or at OSHA's informational Web page for TUVPSG's recognition as an NRTL on OSHA's Web site at http://www.osha.gov/dts/otpca/nrtl/tuvpsg.html.

Conditions

In addition to those conditions already required by 29 CFR 1910.7, TUVPSG also must abide by the following conditions of the recognition:

1. TUVPSG must inform OSHA as soon as possible, in writing, of any change of ownership, facilities, or key personnel, and of any major change in its operations as an NRTL, and provide details of the change(s);

2. TUVPSG must meet all the terms of its recognition and comply with all OSHA policies pertaining to this recognition; and

3. TUVPSG must continue to meet the requirements for recognition, including all previously published conditions on TUVPSG's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912, Jan. 25, 2012), and 29 CFR 1910.7.

Signed at Washington, DC, on January 27, 2014.
David Michaels,
Assistant Secretary of Labor for Occupational Safety and Health.

[FR Doc. 2014-01858 Filed 1-29-14; 8:45 am]

BILLING CODE 4510-26-P